Title 3—

The President

Proclamation 8672 of May 9, 2011

National Building Safety Month, 2011

By the President of the United States of America

A Proclamation

Building safety is a critical component of our homeland security, our personal and public safety, the protection of property, and our economic well-being. While disasters have had devastating and heartbreaking effects in our country and around the world, modern building safety standards and fire prevention codes help us withstand, mitigate, and rapidly recover from hurricanes, winter storms, tornadoes, earthquakes, and floods.

It is our collective responsibility as a Nation—nonprofit organizations and the public and private sectors—to implement effective standards and codes that sustain safe and resilient structures. We need innovation and partnerships at all levels of society to develop transformative breakthroughs in building materials and construction techniques that strengthen the integrity of our homes, workplaces, and commercial facilities.

Building safety and fire prevention officials, architects, engineers, design professionals, builders, and others in the construction industry work every day to ensure the sound construction of buildings and the safety of our citizens. Their efforts to construct or retrofit buildings that utilize state-of-the-art safety, energy efficiency, and fire prevention standards are important to our national resilience and our ability to compete in the 21st-century economy.

As a resilient Nation, we must continue to do everything in our power to enhance our ability to withstand and rapidly recover from natural and manmade disasters, disruptions, and emergencies.

NOW, THEREFORE, I, BARACK OBAMA, President of the United States of America, by virtue of the authority vested in me by the Constitution and the laws of the United States, do hereby proclaim May 2011 as National Building Safety Month. I encourage citizens, government agencies, private businesses, nonprofit organizations, and other interested groups to join in activities that will increase awareness of building safety, and I further urge Americans to learn more about how they can contribute to building safety at home and in their communities.

IN WITNESS WHEREOF, I have hereunto set my hand this ninth day of May, in the year of our Lord two thousand eleven, and of the Independence of the United States of America the two hundred and thirty-fifth.

[FR Doc. 2011-11970

Filed 5-12-11; 8:45 am]

Billing code 3195-W1-P